DEPARTMENT OF COMMERCE

International Trade Administration

[A-570-918]

Steel Wire Garment Hangers From the People's Republic of China: Amended Final Results of the Second Antidumping Duty Administrative Review

AGENCY: Import Administration, International Trade Administration, Department of Commerce.

DATES: Effective Date: March 30, 2012.

FOR FURTHER INFORMATION CONTACT: Bob Palmer, AD/CVD Operations, Office 9, Import Administration, International Trade Administration, Department of Commerce, 14th Street and Constitution Avenue NW., Washington, DC 20230; telephone: (202) 482-0968.

SUPPLEMENTARY INFORMATION:

Background

On March 1, 2012, the Department of Commerce (“Department”) published the final results of the second administrative review of the antidumping duty order on steel wire garment hangers (“hangers”) from the People's Republic of China (“PRC”).¹ On March 5, 2012, Petitioner ² filed a timely allegation that the Department made two ministerial errors in the Final Results and requested, pursuant to 19 CFR 351.224, that the Department correct the alleged ministerial errors. No other party in this proceeding submitted comments on the Department's final margin calculations. Based upon our analysis of the comments and allegations of ministerial errors, we have made changes to the margin calculations for Shanghai Wells Hanger Co., Ltd. (“Shanghai Wells”).³ Additionally, because no other parties received a separate rate in this administrative review, the changes to Shanghai Wells' margin will not change the current rates of any other parties.

¹ See Steel Wire Garment Hangers From the People's Republic of China: Final Results and Final Partial Rescission of Second Antidumping Administrative Review, 77 FR 12553 (March 1, 2012) (“Final Results”).

² M&B Metal Products Co., Inc. (“Petitioner”).

³ In the Final Results, the Department found that that Shanghai Wells, Hong Kong Wells Limited (“HK Wells”) and Hong Kong Wells Limited (USA) (“USA Wells”) (collectively, “Wells Group”) are affiliated and that Shanghai Wells and HK Wells comprise a single entity. See Final Results, 77 FR at 12554 n. 4. Petitioner's ministerial error allegations do not challenge, and these amended final results do not affect, that determination.

Scope of the Order

The merchandise subject to the order is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers. Specifically excluded from the scope of the order are wooden, plastic, and other garment hangers that are not made of steel wire. Also excluded from the scope of the order are chrome-plated steel wire garment hangers with a diameter of 3.4 mm or greater. The products subject to the order are currently classified under U.S. Harmonized Tariff Schedule (“HTSUS”) subheadings 7326.20.0020, 7323.99.9060, and 7323.99.9080.

Although the HTSUS subheadings are provided for convenience and customs purposes, the written description of the merchandise is dispositive.

Amended Final Results of the Review

The Tariff Act of 1930, as amended (“Act”), defines a “ministerial error” as including “errors in addition, subtraction, or other arithmetic function, clerical errors resulting from inaccurate copying, duplication, or the like, and any other type of unintentional error which the administering authority considers ministerial.” ⁴ After analyzing Petitioner's comments, we have determined that we made certain ministerial errors, as defined by section 751(h) of the Act, in our calculations for the Final Results.

⁴ See section 751(h) of the Act; see also 19 CFR 351.224(f).

First, we agree with Petitioner that we made a ministerial error in the calculation of the surrogate financial ratios of Nasco Steel Pvt., Ltd. (“Nasco”), which were used in Shanghai Wells' margin calculation. Specifically, the Department inadvertently excluded Nasco's commission on sales from selling, general and administrative expenses (SG&A”) for the calculation of surrogate SG&A ratio calculation, when we instead intended to include Nasco's commission on sales in the surrogate SG&A ratio calculation. Lastly, we agree with Petitioner's second ministerial error allegation regarding the treatment of the net changes in finished goods inventory in the calculation of Sterling Tools Limited's (“Sterling”) surrogate financial ratio calculations. Specifically, the Department inadvertently excluded the net changes in finished goods in the surrogate SG&A and profit ratio calculations for Sterling, when we instead intended to include the net changes in finished goods inventories in Sterling's SG&A and profit ratios. Additionally, when reviewing the financial ratio calculations for J&K Wire Steel Industries Ltd. (“JK Wire”), we noted that we made the same inadvertent error in JK Wire's SG&A and profit ratio calculation.⁵ For a detailed discussion of these ministerial errors, as well as the Department's analysis of these errors, see Memorandum to James C. Doyle, from Bob Palmer, regarding “Second Antidumping Duty Administrative Review of Steel Wire Garment Hangers from the People's Republic of China: Ministerial Error Memorandum,” dated concurrently with this notice (“Ministerial Memo”). The Ministerial Memo is a public document and is on file electronically via Import Administration's Antidumping and Countervailing Duty Centralized Electronic Service System (“IA ACCESS”). Access to IA ACCESS is available in the Central Records Unit (“CRU”), Main Commerce Building, Room 7046. In addition, a complete version of the Ministerial Memo can be accessed directly on the Internet at http://www.trade.gov/ia. The paper copy and electronic versions of the Ministerial Memo are identical in content.

⁵ Petitioner states we made these adjustments to J&K Wire. However, the Department made these adjustments to Bandsidhar Granites Pvt. Ltd. (“Bansidhar”) and Nasco's financial ratios. Moreover, consistent with the Department's practice, we included net changes in traded goods in the SG&A and profit ratios for Bansidhar alone, given that we only make such an adjustment when the information is available and Bansidhar was the only surrogate company with a traded goods line item in its financial statement.

Therefore, in accordance with section 751(h) of the Act and 19 CFR 351.224(e), we are amending the Final Results of the administrative review of steel wire garment hangers from the PRC. Listed below are the weighted average dumping margins for these amended final results:

Exporter | Weighted average margin (percent)
Shanghai Wells Hanger Co., Ltd. and/or Hong Kong Wells Limited ⁶ | 0.81
PRC-Wide Entity | 187.25

Disclosure

⁶ As stated above, Shanghai Wells and HK Wells comprise a single entity. See Final Results, 77 FR at 12554 n. 4.

We will disclose the calculations performed for these amended final results within five days of the date of publication of this notice to interested parties in accordance with 19 CFR 351.224(b).

Assessment Rates

Pursuant to section 751(a)(2)(A) of the Act and 19 CFR 351.212(b)(1), the Department will determine, and U.S. Customs and Border Protection (“CBP”) shall assess, antidumping duties on all appropriate entries of subject merchandise in accordance with the amended final results of this review. For assessment purpose, we calculated importer (or customer)-specific assessment rates for merchandise subject to this review. See 19 CFR 351.212(b)(1). Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer's (or customer's) entries of subject merchandise without regard to antidumping duties, in accordance with 19 CFR 351.106(c)(2). The Department intends to issue assessment instructions to CBP 15 days after the date of publication of these amended final results of review.

Cash Deposit Requirements

The following cash deposit requirements will be effective upon publication of the amended final results of this administrative review for all shipments of the subject merchandise entered, or withdrawn from warehouse, for consumption on or after the publication date, as provided for by section 751(a)(2)(C) of the Act: (1) For the exporters listed above, the cash deposit rate will be established by the amended final results of this review; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate established in the amended final results of this review (i.e., 187.25 percent); and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

These amended final results are published in accordance with sections 751(h) and 777(i)(1) of the Act.

Dated: March 23, 2012.
Paul Piquado,
Assistant Secretary for Import Administration.

[FR Doc. 2012-7740 Filed 3-29-12; 8:45 am]

BILLING CODE 3510-DS-P